NUCLEAR REGULATORY COMMISSION

Advisory Committee on Nuclear Waste; Notice of Meeting

The Advisory Committee on Nuclear Waste (ACNW) will hold its 168th meeting on March 22-24, 2006, NRC Commissioners' Conference Room O-1G16, One White Flint North, 11555 Rockville Pike, Rockville, Maryland.

The schedule for this meeting is as follows:

Wednesday, March 22, 2006

8:30 a.m.-8:45 a.m.: Opening Statement (Open)—The ACNW Chairman will make opening remarks regarding the conduct of today's sessions.

ACNW Working Group Meeting (WGM) on Draft Final Guidance to Implement NRC's License Termination Rule (Open)—Representatives from NRC's Office of Nuclear Materials Safety and Safeguards (NMSS) will brief the ACNW and the ACNW's panel of invited subject matter experts on public comments received on draft proposed NUREG-1757 (Supplement 1)—“Consolidated NMSS Decommissioning Guidance: Updates to Implement the License Termination Rule Analysis: Draft Report for Comment.” The NRC staff also intend to brief the Committee on their conceptual plans for addressing the public comments received. A copy of this NUREG is available at http://www.nrc.gov/reading-rm/doc-collections/nuregs/staff/sr1757/s1/.

8:45 a.m.-9 a.m.: Opening Remarks by the WGM Chairman—The WGM Chairman will make opening remarks and introduce the ACNW's panel of invited subject matter experts for this working group meeting.

9 a.m.-9:30 a.m.: Update on Status of NUREG-1757 Development (Open)—Presentation by NMSS Representative(s).

9:30 a.m.-10:30 a.m.: Summary of Public Comments on the Proposed Treatment of Realistic Scenarios, Intentional Mixing, and Removal of Material after License Termination Provisions of Draft NUREG-1757 (Open)—Presentation by NMSS Representative(s).

10:45 a.m.-12 Noon: Summary of Public Comments on the Onsite Disposal Provisions of Draft NUREG-1757 (Open)—Presentation by NMSS Representative(s).

1:30 p.m.-2:45 p.m.: Summary of Public Comments on the Engineered Barrier Provisions of Draft NUREG-1757 (Open)—Presentation by NMSS Representative(s).

2:45 p.m.-4 p.m.: Summary of Public Comments on the Institutional Controls/Restricted Release Provisions of Draft NUREG-1757 (Open)—Presentation by NMSS Representative(s).

4:15 p.m.-5:15 p.m.: Roundtable Discussion (Open)—The WGM Chairman will lead a discussion among the panel of invited subject matter experts on the technical material presented and discuss the content of a possible Committee letter report to the Commission concerning potential changes to NUREG-1757 that might be proposed as a result of the public comment process.

Thursday, March 23, 2006

8:30 a.m.-8:45 a.m.: Opening Remarks by the ACNW Chairman (Open)—The Chairman will make opening remarks regarding the conduct of today's sessions.

9 a.m.-1 p.m.: U.S. Department of Energy (DOE) Office of Science and Technology and International Waste Safety-Related Research (Open)—Representatives of the Department of Energy's Office of Science and Technology and International (OST&I) will discuss work being carried out under OST&I's science and technology research programs. These programs are directed toward enhancing the understanding and optimizing the performance of the proposed Yucca Mountain repository. The topics to be discussed will include materials performance, source term, natural barriers, radioactive getters, and use of advanced technologies.

2 p.m.-3 p.m.: Briefing by the Director of the Office of Nuclear Regulatory Research (RES) (Open)—Dr. Carl Paperiello, the RES Office Director, will brief the Committee on recent activities of interest in the area of radioactive waste management.

Friday, March 24, 2006

8:30 a.m.-8:45 a.m.: Opening Remarks by the ACNW Chairman (Open)—The Chairman will make opening remarks regarding the conduct of today's sessions.

Recent Developments Related to Modeling the Igneous Activity in the Yucca Mountain Region (Open)

8:45 a.m.-9:45 a.m.: Modeling the Long-Term Fluvial Redistribution of Volcanic Tephra in Forty Mile Wash, Yucca Mountain—Representatives from the NRC staff and the Center for Nuclear Waste Regulatory Analyses will discuss a hypothetical scenario in which a geologic repository at Yucca Mountain is intersected by a volcanic vent, resulting in dispersal of contaminated ash. The speakers will discuss how the NRC staff will model the fluvial redistribution of this ash in the Forty Mile Wash drainage basin adjacent to the Yucca Mountain site.

9:45 a.m.-10:45 a.m.: “Potential Igneous Processes Relevant to the Yucca Mountain Repository: Intrusive-Release Scenario”—Representatives of the Electric Power Research Institute (EPRI) will brief the Committee on their most recent independent study related to the potential consequences of an igneous event in the Yucca Mountain region. A copy of this report is available at http://www.epriweb.com/public/000000000001011165.pdf.

11 a.m.-12 Noon: Discussion of Draft Letters and Reports (Open)—The Committee will discuss prepared draft letters and determine whether letters would be written on topics discussed during the meeting.

12 Noon-12:30 p.m.: Miscellaneous (Open)—The Committee will discuss matters related to the conduct of ACNW activities and specific issues that were not completed during previous meetings, as time and availability of information permit. Discussions may include future Committee Meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Michael P. Lee (Telephone 301-415-6887), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Lee as to their particular needs.

Further information regarding topics to be discussed, whether the meeting has been canceled or rescheduled, the Chairman's ruling on requests for the opportunity to present oral statements and the time allotted, therefore can be obtained by contacting Mr. Lee.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: March 6, 2006.
Andrew L. Bates,
Advisory Committee Management Officer.

[FR Doc. 06-2319 Filed 3-9-06; 8:45 am]

BILLING CODE 7590-01-P